CONSUMER PRODUCT SAFETY COMMISSION

16 CFR Part 1422

[CPSC Docket No. CPSC-2009-0087]

Recreational Off-Highway Vehicles (ROVs); Notice of Opportunity for Oral Presentation of Comments

AGENCY: Consumer Product Safety Commission

ACTION: Notice of opportunity for oral presentation of comments.

SUMMARY: The Consumer Product Safety Commission (CPSC, Commission) announces that there will be an opportunity for interested persons to present oral comments on the notice of proposed rulemaking (NPR) the Commission issued proposing a standard to reduce the risk of injury associated with recreational off-highway vehicles (ROVs). Any oral comments will be part of the rulemaking record.

DATES: The meeting will begin at 10 a.m., January 7, 2015, at the Consumer Product Safety Commission National Product Testing and Evaluation Center, 5 Research Place, Rockville, MD 20850. Requests to make oral presentations and the written text of any oral presentations must be received by the Office of the Secretary not later than 5 p.m. Eastern Standard Time (EST) on December 30, 2014.

ADDRESSES: The meeting will be held at the Consumer Product Safety Commission National Product Testing and Evaluation Center, 5 Research Place, Rockville, MD 20850. Requests to make oral presentations, and texts of oral presentations, should be captioned: “ROVs NPR; Oral Presentation” and submitted by email to cpsc-os@cpsc.gov, or mailed or delivered to the Office of the Secretary, Consumer Product Safety Commission, 4330 East-West Highway, Bethesda, MD 20814, not later than 5 p.m. EST on December 30, 2014.

FOR FURTHER INFORMATION CONTACT: For information about the purpose or subject matter of this meeting, contact Caroleene Paul, Project Manager, Directorate for Engineering Sciences, Consumer Product Safety Commission, 5 Research Place, Rockville, MD 20850; telephone (301) 987-2225; cpaul@cpsc.gov. For information about the procedure to make an oral presentation, contact Rockelle Hammond, Office of the Secretary, Consumer Product Safety Commission, 4330 East-West Highway, Bethesda, MD 20814; telephone (301) 504-7923.

SUPPLEMENTARY INFORMATION:

A. Background

The U.S. Consumer Product Safety Commission has determined preliminarily that there may be an unreasonable risk of injury and death associated with ROVs. On November 19, 2014, the Commission issued an NPR to address the risk of injury posed by ROVs. (79 FR 68964). The NPR proposes a rule that includes:

(1) Lateral stability and vehicle handling requirements that specify a minimum level of rollover resistance for ROVs and require that ROVs exhibit sublimit understeer characteristics;

(2) lateral stability information requirements in the form of a hangtag; and

(3) occupant retention requirements that would limit the maximum speed of an ROV to no more than 15 miles per hour (mph), unless the seat belts of both the driver and front passengers, if any, are fastened, and would require ROVs to have a passive means, such as a barrier or structure, to limit further the ejection of a belted occupant in the event of a rollover.

These requirements would be issued under the Consumer Product Safety Act (CPSA). The NPR and staff's briefing package are available on the Commission's Web site at: http://www.cpsc.gov/Newsroom/FOIA/Commission-Briefing-Packages/2014/.

B. The Public Meeting

The CPSA requires that the Commission provide an opportunity for the “oral presentation of data, views, or arguments,” in addition to written comments, when the Commission develops a consumer product safety standard under section 9 of the CPSA. 15 U.S.C. 2058(d)(2). Thus, the Commission is providing this forum for oral presentations concerning the proposed ROV standard. See the information under the headings DATES and ADDRESSES at the beginning of this notice for information on making requests to give oral presentations at the meeting and submission of written text in advance. Those who wish to make oral presentations must comply with the procedures described in this notice.

Participants should limit their presentations to approximately 10 minutes, exclusive of any periods of questioning by the Commissioners. To prevent duplicative presentations, groups will be directed to designate a spokesperson. The Commission reserves the right to adjust meeting procedures as may be necessary, including the right to limit the time further for any presentation and impose restrictions to avoid excessive duplication of presentations.

Dated: November 26, 2014.
Alberta E. Mills,
Acting Secretary, U.S. Consumer Product Safety Commission.

[FR Doc. 2014-28381 Filed 12-2-14; 8:45 am]

BILLING CODE 6355-01-P